FEDERAL MARITIME COMMISSION

[Docket No. 20-12]

Nnabugwu Chinedu Andrew, Avers Logistics Ltd., and CJ Deluz Nigeria Ltd., Complainants v. Marine Transport Logistics, Inc., Alla Solovyeva, and Raya Bakhirev, Respondents; Filing of Complaint and Assignment

Served: August 6, 2020.

Notice is given that a complaint has been filed with the Federal Maritime Commission (Commission) by Nnabugwu Chinedu Andrew, Avers Logistics Ltd., and CJ Deluz Nigeria Ltd., hereinafter “Complainants”, against Marine Transport Logistics, Inc., Alla Solovyeva, and Raya Bakhirev, hereinafter “Respondents”. Complainants state they “are and were foreign buyers of automobiles and were located in the State of Lagos, Federal Republic of Nigeria.” Complainant states that Respondent Marine Transport Logistics, Inc. “is and was an international shipping company, providing freight forwarding and logistics services to customers on a worldwide basis and is principally located in the New York City area.” Complainants state that Respondent Alla Solovyeva “is and was an officer of MTL.” Complainants state that Respondent Raya Bakhirev “is and was employed by MTL as a General Manager.”

Complainant alleges they hired Respondent Marine Transport Logistics, Inc. “to ship Complainants' vehicles described herein from a warehouse operated by MTL in the United States to various locations abroad via ocean going vessel.”

Complainant alleges that Respondents violated 46 U.S.C. 41102(b), 41102(c), 40102(6)(A)(ii), 40901(a), and 41104. Complainant seeks $172,852.00 in reparations and other relief.

The full text of the complaint can be found in the Commission's Electronic Reading Room at https://www2.fmc.gov/readingroom/proceeding/20-12/.

This proceeding has been assigned to Office of Administrative Law Judges. The initial decision of the presiding office in this proceeding shall be issued by August 6, 2021, and the final decision of the Commission shall be issued by February 23, 2022.

Rachel Dickon,
Secretary.

[FR Doc. 2020-17655 Filed 8-11-20; 8:45 am]

BILLING CODE 6730-02-P